DEPARTMENT OF ENERGY

Federal Energy Regulatory Commission

Combined Notice of Filings #1

Take notice that the Commission received the following electric corporate filings:

Docket Numbers: EC23-54-000.

Applicants: Evergy Kansas Central, Inc., Evergy, Inc., Persimmon Creek Wind Farm 1, LLC.

Description: Joint Application for Authorization Under Section 203 of the Federal Power Act of Evergy Kansas Central, Inc., et al.

Filed Date: 2/6/23.

Accession Number: 20230206-5088.

Comment Date: 5 p.m. ET 2/27/23.

Take notice that the Commission received the following exempt wholesale generator filings:

Docket Numbers: EG23-80-000.

Applicants: Lockhart ESS, LLC.

Description: Lockhart ESS, LLC submits Notice of Self-Certification of Exempt Wholesale Generator Status.

Filed Date: 2/3/23.

Accession Number: 20230203-5205.

Comment Date: 5 p.m. ET 2/24/23.

Take notice that the Commission received the following electric rate filings:

Docket Numbers: ER10-1841-028; ER10-1849-030; ER10-1851-018; ER10-1852-076; ER10-1857-021; ER10-1890-025; ER10-1899-020; ER13-712-032; ER13-752-019; ER13-1991-026; ER13-1992-026; ER15-2582-014; ER15-2676-023; ER16-1672-021; ER17-804-004; ER17-2152-017; ER18-882-017; ER18-1534-012; ER18-1863-015; ER18-1978-011; ER19-987-015; ER19-1003-015; ER19-1393-015; ER19-1394-015; ER19-2269-008; ER19-2437-011; ER19-2461-011; ER20-122-009; ER20-1769-009; ER20-1980-008; ER20-1986-007; ER20-1987-010; ER20-2049-007; ER21-1320-005; ER21-1519-005; ER21-1682-005; ER21-1879-006; ER21-2118-008; ER21-2293-008; ER21-2296-007; ER22-381-006; ER22-2518-002; ER22-2634-002; ER23-71-001; ER22-2516-001.

Applicants: Chaves County Solar II, LLC, Buena Vista Energy Center, LLC, Buffalo Ridge Wind, LLC, Clearwater Wind I, LLC, Dunns Bridge Solar Center, LLC, Ensign Wind Energy, LLC, Fish Springs Ranch Solar, LLC, Dodge Flat Solar, LLC, Farmington Solar, LLC, Elora Solar, LLC, Cool Springs Solar, LLC, Crystal Lake Wind Energy III, LLC, Cedar Springs Wind III, LLC, Cerro Gordo Wind, LLC, Day County Wind I, LLC, Cedar Springs Wind, LLC, Chicot Solar, LLC, Crowned Ridge Interconnection, LLC, Crowned Ridge Wind, LLC, Emmons-Logan Wind, LLC, Dougherty County Solar, LLC, Endeavor Wind II, LLC, Endeavor Wind I, LLC, Crystal Lake Wind Energy II, LLC, Crystal Lake Wind Energy I, LLC, Casa Mesa Wind, LLC, Coolidge Solar I, LLC, East Hampton Energy Storage Center, LLC, Elk City Renewables II, LLC, Cottonwood Wind Project, LLC, Coram California Development, L.P., Chaves County Solar, LLC, Cedar Bluff Wind, LLC, Carousel Wind Farm, LLC, Desert Sunlight 300, LLC, Desert Sunlight 250, LLC, Energy Storage Holdings, LLC, Cimarron Wind Energy, LLC, FPL Energy Illinois Wind, LLC, FPL Energy Green Power Wind, LLC, FPL Energy Cape, LLC, Florida Power & Light Company, ESI Vansycle Partners, L.P., Elk City Wind, LLC, Butler Ridge Wind Energy Center, LLC.

Description: Notice of Change in Status of NextEra Companies, et al.

Filed Date: 1/31/23.

Accession Number: 20230131-5515.

Comment Date: 5 p.m. ET 2/21/23.

Docket Numbers: ER10-1907-027; ER10-1918-028; ER10-1930-018; ER10-1931-019; ER10-1932-021; ER10-1935-022; ER10-1950-028; ER10-1962-025; ER11-2160-025; ER11-2642-024; ER11-3635-020; ER12-1228-031; ER13-2112-020; ER13-2147-008; ER14-2447-002; ER15-2101-015; ER15-2477-018; ER15-2601-012; ER16-90-018; ER16-2275-019; ER17-2340-015; ER18-1952-014; ER18-2246-017; ER19-1392-010; ER19-2389-010; ER19-2398-013; ER20-2019-008; ER20-2064-009; ER20-2690-009; ER21-254-007; ER21-1953-007; ER21-2225-007; ER22-1982-004.

Applicants: Great Prairie Wind, LLC, Irish Creek Wind, LLC, Heartland Divide Wind II, LLC, Harmony Florida Solar, LLC, Jordan Creek Wind Farm LLC, High Majestic Wind I, LLC, Gray County Wind, LLC, Hancock County Wind, LLC, Grazing Yak Solar, LLC, High Lonesome Mesa Wind, LLC, Heartland Divide Wind Project, LLC, Gulf Power Company, Golden Hills North Wind, LLC, Kingman Wind Energy I, LLC, Golden Hills Interconnection, LLC, Green Mountain Storage, LLC, Golden Hills Wind, LLC, Golden West Power Partners, LLC, Granite Reliable Power, LLC, Frontier Utilities Northeast LLC, Genesis Solar, LLC, High Majestic Wind II, LLC, Hatch Solar Energy Center I, LLC, FPL Energy South Dakota Wind, LLC,FPL Energy Montezuma Wind, LLC, High Winds, LLC, Garden Wind, LLC, FPL Energy Wyman IV, LLC, FPL Energy Wyman, LLC, FPL Energy Vansycle, L.L.C., FPL Energy Stateline II, Inc., FPL Energy North Dakota Wind II, LLC, FPL Energy North Dakota Wind, LLC.

Description: Notice of Change in Status of NextEra Companies, et al.

Filed Date: 2/1/23.

Accession Number: 20230201-5270.

Comment Date: 5 p.m. ET 2/22/23.

Docket Numbers: ER10-1966-020; ER11-4462-076; ER12-895-029; ER12-2225-019; ER12-2226-019; ER14-21-016; ER14-1630-016; ER14-2138-016; ER14-2707-026; ER15-1375-019; ER16-1354-014; ER16-1872-018; ER16-2276-019; ER16-2443-015; ER17-1774-010; ER18-772-010; ER18-1535-011; ER18-1771-017; ER18-2003-015; ER18-2066-010; ER18-2182-016; ER20-1907-008; ER20-2695-010; ER21-2117-007; ER21-2149-007; ER21-2699-008; ER22-2536-002; ER23-489-002.

Applicants: Neptune Energy Center, LLC, Kossuth County Wind, LLC, Minco Wind Energy III, LLC, Minco Wind Energy II, LLC, Little Blue Wind Project, LLC, Mohave County Wind Farm LLC, Minco Wind I, LLC, Minco IV & V Interconnection, LLC, Minco Wind IV, LLC, Lorenzo Wind, LLC, Langdon Renewables, LLC, Montauk Energy Storage Center, LLC, New Mexico Wind, LLC, NextEra Energy Bluff Point, LLC, NextEra Blythe Solar Energy Center, LLC, Kingman Wind Energy II, LLC, Marshall Solar, LLC, Live Oak Solar, LLC, McCoy Solar, LLC, Mammoth Plains Wind Project, LLC, Limon Wind III, LLC, Mantua Creek Solar, LLC, Mountain View Solar, LLC, Limon Wind, LLC, Limon Wind II, LLC, Minco Wind Interconnection Services, LLC,NEPM II, LLC, Logan Wind Energy LLC.

Description: Notice of Change in Status of NextEra Companies, et al.

Filed Date: 2/1/23.

Accession Number: 20230201-5271.

Comment Date: 5 p.m. ET 2/22/23.

Docket Numbers: ER10-2005-028; ER15-1418-019; ER15-1883-019; ER15-1925-024; ER16-91-018; ER16-632-018; ER16-2190-020; ER16-2191-020; ER16-2453-021; ER18-2118-016; ER19-1073-009; ER19-2373-011; ER19-2901-010; ER20-819-012; ER20-820-010; ER20-2179-008; ER21-1990-006; ER21-2294-007; ER21-2304-007; ER21-2674-006; ER22-415-006; ER23-568-001.

Applicants: Big Cypress Solar, LLC, Arlington Energy Center III, LLC, Borderlands Wind, LLC, Arlington Solar, LLC, Arlington Energy Center II, LLC, Blackwell Wind Energy, LLC, Baldwin Wind Energy, LLC, Blythe Solar IV, LLC, Blythe Solar III, LLC, Bronco Plains Wind, LLC, Ashtabula Wind I, LLC, Alta Wind VIII, LLC, Armadillo Flats Wind Project, LLC, Brady Interconnection, LLC, Brady Wind II, LLC, Brady Wind, LLC, Blythe Solar II, LLC, Blythe Solar 110, LLC, Breckinridge Wind Project, LLC, Adelanto Solar, LLC, Adelanto Solar II, LLC, Ashtabula Wind II, LLC.

Description: Notice of Change in Status of NextEra Companies, et al.

Filed Date: 1/31/23.

Accession Number: 20230131-5514.

Comment Date: 5 p.m. ET 2/21/23.

Docket Numbers: ER11-2044-040; ER10-1520-011; ER10-1521-011; ER10-1522-008; ER12-162-034; ER13-1266-045; ER15-2211-042; ER20-2493-006; ER21-2280-004.

Applicants: Independence Wind Energy LLC, OTCF, LLC, MidAmerican Energy Services, LLC, CalEnergy, LLC, Bishop Hill Energy II LLC, Occidental Chemical Corporation, Occidental Power Marketing, L.P., Occidental Power Services, Inc., MidAmerican Energy Company.

Description: Notice of Non-Material Change in Status of MidAmerican Energy Company, et al.

Filed Date: 1/31/23.

Accession Number: 20230131-5513.

Comment Date: 5 p.m. ET 2/21/23.

Docket Numbers: ER23-1051-000.

Applicants: Southwestern Electric Power Company.

Description: Tariff Amendment: Rate Schedule 305, System Integration Agreement Concurrence to be effective 5/22/2022.

Filed Date: 2/3/23.

Accession Number: 20230203-5186.

Comment Date: 5 p.m. ET 2/24/23.

Docket Numbers: ER23-1052-000.

Applicants: Union Atlantic Electricity.

Description: Notice of Cancellation of Market Based Rate Tariff of Union Atlantic Electricity.

Filed Date: 2/3/23.

Accession Number: 20230203-5239.

Comment Date: 5 p.m. ET 2/24/23.

Docket Numbers: ER23-1053-000.

Applicants: Merino Solar, LLC.

Description: Request for Limited Waiver, et al. of Merino Solar, LLC.

Filed Date: 2/3/23.

Accession Number: 20230203-5246.

Comment Date: 5 p.m. ET 2/24/23.

Docket Numbers: ER23-1054-000.

Applicants: PPL Electric Utilities Corporation, PJM Interconnection, L.L.C.

Description: § 205(d) Rate Filing: PPL Electric Utilities Corporation submits tariff filing per 35.13(a)(2)(iii: PPL submits SA No. 6789 Construction Service Agreement to be effective 1/9/2023.

Filed Date: 2/6/23.

Accession Number: 20230206-5073.

Comment Date: 5 p.m. ET 2/27/23.

Take notice that the Commission received the following public utility holding company filings:

Docket Numbers: PH23-4-000.

Applicants: Unison Energy, LLC, AIM Universal Holdings, LLC, Hunt Companies, Inc.

Description: Unison Energy, LLC, et al., submits FERC 65-A Exemption Notification.

Filed Date: 2/6/23.

Accession Number: 20230206-5087.

Comment Date: 5 p.m. ET 2/27/23.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 6, 2023.
Debbie-Anne A. Reese,
Deputy Secretary.

[FR Doc. 2023-02892 Filed 2-9-23; 8:45 am]

BILLING CODE 6717-01-P